DEPARTMENT OF ENERGY

Federal Energy Regulatory Commission

[Docket Nos. ER02-1326-001 and ER02-1326-002]

PJM Interconnection, L.L.C.; Notice

October 11, 2002.

Take notice that at the Commission's public meeting of October 9, 2002, the Agenda Item A-3 panel presentations and discussions on demand response matters may have touched upon matters relating to demand response issues currently being considered by the Commission in the dockets listed above. Consequently, the Commission is hereby providing an opportunity for parties in the dockets listed above to file comments on the presentations and discussions that pertain to issues pending in these dockets. The relevant portions of the transcripts of the October 9, 2002, Commission meeting will also be placed in the record of these dockets.

Any party in these dockets desiring to file comments should file with the Federal Energy Regulatory Commission, 888 First Street, NE., Washington, DC 20426, in accordance with Rules 211 and 214 of the Commission's Rules of Practice and Procedure (18 CFR 385.211 and 385.214). All such comments should be filed on or before the comment date, and, to the extent applicable, must be served on the applicant and on any other person designated on the official service list. Comments may be filed electronically via the Internet in lieu of paper; see 18 CFR 385.2001(a)(1)(iii) and the instructions on the Commission's Web site under the “e-Filing” link. The Commission strongly encourages electronic filings.

Comment Date: October 31, 2002.

Magalie R. Salas,
Secretary.

[FR Doc. 02-26561 Filed 10-17-02; 8:45 am]

BILLING CODE 6717-01-P